SURFACE TRANSPORTATION BOARD

[Docket No. AB 1322X]

Wolf Creek Railroad LLC—Abandonment Exemption—in Gibson County, Tenn.

On June 16, 2022, Wolf Creek Railroad LLC (WCR) filed a petition under 49 U.S.C. 10502 for exemption from the prior approval requirements of 49 U.S.C. 10903 to abandon an approximately 10-mile line of railroad (the Line) located within the Milan Army Ammunition Plant (the Plant) in Gibson County, Tenn. There is one station on the Line, and the Line constitutes WCR's entire rail system. The Line traverses U.S. Postal Service Zip Code 38358.

According to WCR, it leased the Line from the U.S. Army Joint Munitions Command (JMC) through JMC's representative, American Ordnance LLC. A portion of the Plant had been repurposed as a business park, and WCR provided common carrier rail service to customers there.¹ On March 31, 2021, the JMC provided notice to WCR that it was terminating the lease as of December 31, 2021, and that WCR was required to cease its rail operations and vacate the Plant. WCR represents that the last customer on the Line was a plastics-transload customer that stopped shipping on the Line in October 2021. Thus, WCR seeks to abandon the Line.

¹ See Wolf Creek R.R.—Lease & Operation Exemption—Am. Ordnance LLC, FD 36236 (STB served Nov. 18, 2018).

WCR states that the Line and the property that the Line serves are owned by the JMC. Therefore, the Line is located on a federally-owned right-of-way. Any documentation in WCR's possession will be made available promptly to those requesting it.

Citing A&R Line, Inc.—Abandonment Exemption—in Cass & Pulaski Counties, AB 855 (Sub-No. 1X) (STB served Aug. 20, 2003), WCR asserts that, because it proposes to abandon its entire railroad system, the imposition of employee protective conditions is not appropriate.

By issuing this notice, the Board is instituting an exemption proceeding pursuant to 49 U.S.C. 10502(b). A final decision will be issued by October 4, 2022.

Any offer of financial assistance (OFA) under 49 CFR 1152.27(b)(2) will be due no later than 120 days after the filing of the petition for exemption, or 10 days after service of a decision granting the petition for exemption, whichever occurs sooner. Persons interested in submitting an OFA must first file a formal expression of intent to file an offer by July 18, 2022, indicating the type of financial assistance they wish to provide (i.e., subsidy or purchase) and demonstrating that they are preliminarily financially responsible. See 49 CFR 1152.27(c)(1)(i).

Following abandonment, the Line may be suitable for other public use, including interim trail use. Any request for a public use condition under 49 CFR 1152.28 or for interim trail use/rail banking under 49 CFR 1152.29 will be due no later than July 26, 2022.²

² Filing fees for OFAs and trail use requests can be found at 49 CFR 1002.2(f)(25) and (27), respectively.

All pleadings, referring to Docket No. AB 1322X, must be filed with the Surface Transportation Board either via e-filing on the Board's website or in writing addressed to 395 E Street SW, Washington, DC 20423-0001. In addition, a copy of each pleading must be served on WCR's representative, Eric M. Hocky, Clark Hill, PLC, Two Commerce Square, 2001 Market Street, Suite 2620, Philadelphia, PA 19103. Replies to the petition are due on or before July 26, 2022.

Persons seeking further information concerning abandonment procedures may contact the Board's Office of Public Assistance, Governmental Affairs, and Compliance at (202) 245-0238 or refer to the full abandonment regulations at 49 CFR part 1152. Questions concerning environmental issues may be directed to the Board's Office of Environmental Analysis (OEA) at (202) 245-0294. Assistance for the hearing impaired is available through the Federal Relay Service at (800) 877-8339.

An environmental assessment (EA) (or environmental impact statement (EIS), if necessary) prepared by OEA will be served upon all parties of record and upon any other agencies or persons who comment during its preparation. Other interested persons may contact OEA to obtain a copy of the EA (or EIS). EAs in abandonment proceedings normally will be made available within 60 days of the filing of the petition. The deadline for submission of comments on the EA generally will be within 30 days of its service.

Board decisions and notices are available at www.stb.gov.

Decided: June 29, 2022.
Mai T. Dinh,
Director, Office of Proceedings.

[FR Doc. 2022-14304 Filed 7-5-22; 8:45 am]

BILLING CODE 4915-01-P